FEDERAL RESERVE SYSTEM

Agency Information Collection Activities: Announcement of Board Approval Under Delegated Authority and Submission to OMB

Summary

Background

Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the OMB 83-Is and supporting statements and approved collection of information instrument(s) are placed into OMB's public docket files. The Federal Reserve may not conduct or sponsor, and the respondent is not required to respond to, an information collection that has been extended, revised, or implemented on or after October 1, 1995, unless it displays a currently valid OMB control number.

For Further Information Contact: Federal Reserve Board Clearance Officer—Michelle Long—Division of Research and Statistics, Board of Governors of the Federal Reserve System, Washington, DC 20551 (202-452-3829); OMB Desk Officer—Mark Menchik—Office of Information and Regulatory Affairs, Office of Management and Budget, New Executive Office Building, Room 10235, Washington, DC 20503, or e-mail to mmenchik@omb.eop.gov.

Final approval under OMB delegated authority of the extension for three years, without revision, of the following report:

Report title: Notifications Related to Community Development and Public Welfare Investments of State Member Banks.

Agency form number: FR H-6.

OMB Control number: 7100-0278.

Frequency: Event-generated.

Reporters: State member banks.

Annual reporting hours: 125 hours.

Estimated average hours per response: Investment notice, 2 hours; Application (Prior Approval) 5 hours; and Extension of divestiture period, 5 hours.

Number of respondents: Investment notice, 10; Application (Prior Approval) 20; and Extension of divestiture period, 1.

General description of report: This information collection is required to obtain a benefit (12 U.S.C. 338a, and 12 CFR 208.22). Individual respondent data generally are not regarded as confidential, but information that is proprietary or concerns examination ratings would be considered confidential.

Abstract: Regulation H requires state member banks that want to make community development or public welfare investments to comply with the Regulation H notification requirements: (1) If the investment does not require prior Board approval, a written notice must be sent to the appropriate Federal Reserve Bank; (2) if certain criteria are not met, a request for approval must be sent to the appropriate Federal Reserve Bank; and, (3) if the Board orders divestiture but the bank cannot divest within the established time limit, a request or requests for extension of the divestiture period must be submitted to the appropriate Federal Reserve Bank.

Final approval under OMB delegated authority of the extension for three years, with revision, of the following reports:

1. Report title: Application for a Foreign Organization to Acquire a U.S. Bank or a Bank Holding Company.

Agency form number: FR Y-3F (Formerly FR Y-1F).

OMB control number: 7100-0119.

Frequency: On occasion.

Reporters: Any company organized under the laws of a foreign country seeking to acquire a U.S. subsidiary bank or bank holding company (BHC).

Annual reporting hours: 710 hours.

Estimated average hours per response: Initial application, 90 hours; and subsequent application, 70 hours.

Number of respondents: Initial application, 4; and subsequent application, 5

General description of report: This information collection is required to obtain or retain a benefit under the Bank Holding Company Act (BHCA) (12 U.S.C. 1842(a) and (c) and 1844(a) through (c) and is not given confidential treatment unless the applicant specifically requests confidentiality and the Federal Reserve approves the request.

Abstract: Under the BHCA, submission of this application is required for any company organized under the laws of a foreign country seeking to acquire a U.S. subsidiary bank or BHC. Applicants must provide financial and managerial information, discuss the competitive effects of the proposed transaction, and discuss how the proposed transaction would enhance the convenience and needs of the community to be served. The Federal Reserve uses the information, in part, to fulfill its supervisory responsibilities with respect to foreign banking organizations in the United States.

Current Actions: On July 12, 2005, the Federal Reserve issued for public comment proposed revisions to the FR Y-1F report (70 FR 40025). The comment period ended on September 12, 2005. The Federal Reserve did not receive any comments. The changes will be implemented as proposed. Foreign organizations seeking initial entry are currently required to file the FR Y-1F. However, the filing requirements are ambiguous for foreign organizations that are already subject to the BHCA and seek to acquire a U.S. bank or BHC. In order to clarify and streamline the application process for foreign organizations, the Federal Reserve will explicitly state that these organizations should file the FR Y-1F. Thus, the FR Y-1F will be retitled, renumbered, and modified to achieve consistency with the FR Y-3, the Application for Prior Approval to Become a Bank Holding Company or for a Bank Holding Company to Acquire an Additional Bank or Bank Holding Company (OMB No. 7100-0121), the form used by domestic holding companies. Also, the Federal Reserve proposed technical clarifications to the instructions that will remove page number references to the Interagency Biographical or Financial Report (FR 2081c; OMB No. 7100-0134) and insert a sentence into the standard commitment language in order to make the commitments more enforceable.

2. Report title: International Applications and Prior Notifications Under Subpart B of Regulation K.

Agency form number: FR K-2.

OMB control number: 7100-0284.

Frequency: On occasion.

Reporters: Foreign banks.

Annual reporting hours: 420 hours.

Estimated average hours per response: 35 hours.

Number of respondents: 12.

General description of report: This information collection is required to obtain or retain a benefit under sections 7 and 10 of the International Banking Act (12 USC 3105 and 3107) and Regulation K (12 C.F.R. 211.24(a)) and is not given confidential treatment unless the applicant specifically requests confidentiality and the Federal Reserve approves the request.

Abstract: Foreign banks are required to obtain the prior approval of the Federal Reserve to establish a branch, agency, or representative office; to acquire ownership or control of a commercial lending company in the United States; or to change the status of any existing office in the United States. The Federal Reserve uses the information, in part, to fulfill its statutory obligation to supervise foreign banking organizations with offices in the United States.

Current Actions: On July 12, 2005, the Federal Reserve issued for public comment proposed revisions to the FR K-2 report (70 FR 40025). The comment period ended on September 12, 2005. The Federal Reserve did not receive any comments. The changes will be implemented as proposed. The Federal Reserve proposed technical clarifications to the instructions that will remove page number references to the Interagency Biographical or Financial Report (FR 2081c; OMB No. 7100-0134), correct language pertaining to representative offices, and insert a sentence into the standard commitment language in order to make the commitments more enforceable.

Final approval under OMB delegated authority of the revision, without extension, of the following report:

Report title: Financial Statements for Bank Holding Companies.

Agency form number: FR Y-9C, FR Y-9LP, FR Y-9SP, FR Y-9CS, and FR Y-9ES.

OMB control number: 7100-0128.

Frequency: Quarterly, semiannually, and annually.

Reporters: BHCs.

Annual reporting hours: 400,536 hours.

Estimated average hours per response:

FR Y-9C: 35.55 hours.

FR Y-9LP: 4.75 hours.

FR Y-9SP: 4.85 hours.

FR Y-9ES: 30 minutes.

FR Y-9CS: 30 minutes.

Number of respondents:

FR Y-9C: 2,240.

FR Y-9LP: 2,590.

FR Y-9SP: 3,253.

FR Y-9ES: 87.

FR Y-9CS: 600.

General description of report: This information collection is mandatory (12 U.S.C. 1844(c)). Confidential treatment is not routinely given to the data in these reports. However, confidential treatment for the reporting information, in whole or in part, can be requested in accordance with the instructions to the form, pursuant to sections (b)(4), (b)(6)and (b)(8) of the Freedom of Information Act (5 U.S.C. 522(b)(4), (b)(6) and (b)(8)).

Abstract: The FR Y-9C collects basic financial data from a domestic BHC on a consolidated basis in the form of a balance sheet, an income statement, and detailed supporting schedules, including a schedule of off-balance-sheet items, similar to the Federal Financial Institutions Examination Council (FFIEC) Consolidated Reports of Condition and Income (Call Reports) (FFIEC 031 & 041; OMB No. 7100-0036). The FR Y-9C collects data from the BHC as of the end of March, June, September, and December. The FR Y-9C is filed by top-tier BHCs with total consolidated assets of $150 million or more and lower-tier BHCs that have total consolidated assets of $1 billion or more. In addition, multibank holding companies with total consolidated assets of less than $150 million with debt outstanding to the general public or engaged in certain nonbank activities must file the FR Y-9C.

The FR Y-9LP collects basic financial data from domestic BHCs on an unconsolidated, parent-only basis in the form of a balance sheet, an income statement, and supporting schedules relating to investments, cash flow, and certain memoranda items. This report is filed as of the end of March, June, September, and December on a parent company only basis by each BHC that files the FR Y-9C. In addition, for tiered BHCs, a separate FR Y-9LP must be filed for each lower-tier BHC.

The FR Y-9SP is a parent company only financial statement filed by smaller BHCs as of the end of June and December. Respondents include one-bank holding companies with total consolidated assets of less than $150 million and multibank holding companies with total consolidated assets of less than $150 million that meet certain other criteria. This form is a simplified or abbreviated version of the more extensive parent company only financial statement for large BHCs (FR Y-9LP). This report collects basic balance sheet and income information for the parent company, information on intangible assets, and information on intercompany transactions.

The FR Y-9CS is a free form supplement that may be utilized to collect any additional information deemed to be critical and needed in an expedited manner. It is intended to supplement the FR Y-9C and FR Y-9SP reports.

The FR Y-9ES collects financial information from employee stock ownership plans that are also BHCs on their benefit plan activities as of December 31. It consists of four schedules: Statement of Changes in Net Assets Available for Benefits, Statement of Net Assets Available for Benefits, Memoranda, and Notes to the Financial Statements.

Current Actions: On July 12, 2005, the Federal Reserve issued for public comment proposed revisions to the BHC reports (70 FR 40025). The comment period ended on September 12, 2005. The Federal Reserve did not receive any comments. The changes will be implemented as proposed effective with the September 30, 2005, report date.

The Federal Reserve will revise the FR Y-9C to collect information on purchased impaired loans in response to Statement of Position 03-3, Accounting for Certain Loans or Debt Securities Acquired in a Transfer issued by the American Institute of Certified Public Accountants, and to collect information related to the Government National Mortgage Association (GNMA) mortgage loan optional repurchase program (rebooked loans backing GNMA securities). The revisions are consistent with the changes to the FFIEC 031 Call Report, effective for the June 2005 report date. In addition to modifying instructions to incorporate the reporting changes, instructions will be revised and clarified in an attempt to achieve greater consistency in reporting by respondents.

Board of Governors of the Federal Reserve System, September 19, 2005.
Jennifer J. Johnson,
Secretary of the Board.

[FR Doc. 05-19029 Filed 9-22-05; 8:45 am]

BILLING CODE 6210-01-P